DEPARTMENT OF COMMERCE

International Trade Administration

[A-427-801, A-475-801]

Ball Bearings and Parts Thereof from France and Italy: Rescission of Antidumping Duty Changed-Circumstances Reviews

AGENCY: Import Administration, International Trade Administration, Department of Commerce.

SUMMARY: On March 2, 2007, in response to a request from an interested party, the Department of Commerce initiated a changed-circumstances review of the antidumping duty order on ball bearings and parts thereof from France. On March 9, 2007, the Department self-initiated changed-circumstances reviews of the antidumping duty orders on ball bearings and parts thereof from Italy and the United Kingdom. We are now rescinding the changed-circumstances reviews for France and Italy because we have initiated administrative reviews covering the firms in question and intend to address any considerations arising from the changed-circumstances reviews on the orders on ball bearings and parts thereof from France and Italy in the context of the 2006/2007 administrative review of these orders.

EFFECTIVE DATE: October 26, 2007.

FOR FURTHER INFORMATION CONTACT: Kristin Case or Edythe Artman, AD/CVD Operations, Office 5, Import Administration, International Trade Administration, U.S. Department of Commerce, 14th Street and Constitution Avenue, NW., Washington, DC 20230; telephone (202) 482-3174 or (202) 482-3931, respectively.

SUPPLEMENTARY INFORMATION:

Background

The Department of Commerce (the Department) published antidumping duty orders on ball bearings and parts thereof (ball bearings) from France, Italy, and the United Kingdom on May 15, 1989. See Antidumping Duty Orders: Ball Bearings, Cylindrical Roller Bearings, Spherical Plain Bearings, and Parts Thereof From France, 54 FR 20902 (May 15, 1989), Antidumping Duty Orders: Ball Bearings and Cylindrical Roller Bearings, and Parts Thereof From Italy; 54 FR 20903 (May 15, 1989), and Antidumping Duty Orders and Amendments to the Final Determinations of Sales at Less Than Fair Value: Ball Bearings and Cylindrical Roller Bearings, and Parts Thereof From the United Kingdom, 54 FR 20910 (May 15, 1989).

On August 11, 2000, the Department revoked the antidumping duty order on ball bearings from Italy with respect to those produced by Somecat S.p.A. (SNFA Italy)¹ and the order on ball bearings from France with respect to those produced by Societe Nouvelle de Fabrication Aeronautique S.A.S.U. (SNFA France). See Antifriction Bearings (Other Than Tapered Roller Bearings) and Parts Thereof From France, Germany, Italy, Japan, Romania, Singapore, Sweden, and the United Kingdom; Final Results of Antidumping Duty Administrative Reviews and Revocation of Orders in Part, 65 FR 49219 (August 11, 2000). On July 12, 2001, the Department revoked the order on ball bearings from the United Kingdom with respect to SNFA Bearings Ltd. (SNFA UK). See Antifriction Bearings (Other Than Tapered Roller Bearings) and Parts Thereof From France, Germany, Italy, Japan, Sweden, and the United Kingdom: Final Results of Antidumping Duty Administrative Reviews and Revocation of Orders in Part, 66 FR 36551 (July 12, 2001).

¹ The Department had determined previously that Somecat bearings were marked "SNFA Italy". See Antifriction Bearings (Other Than Tapered Roller Bearings) and Parts Thereof From France, Germany, Italy, Japan, Romania, Sweden, and the United Kingdom; Final Results of Antidumping Duty Administrative Reviews, 64 FR 35590 (July 1, 1999), and accompanying Issues and Decision Memorandum at Comment 1 in Section 11.B.

On January 9, 2007, SKF France S.A. and SKF Aerospace France S.A.S. (collectively SKF France) and SNFA France notified the Department of a change of ownership in SNFA France and requested the initiation of a changed-circumstances review of the order on ball bearings from France. In a separate filing on the same date, SKF Industries S.p.A. (SKF Italy) and SNFA Italy notified the Department of a change in ownership of SNFA Italy. On January 26, 2007, SKF UK Ltd. (SKF UK) and SNFA UK filed such a notification with respect to SNFA UK. Each notification stated that AB SKF, the parent SKF company, had purchased all outstanding shares of the SNFA companies through its subsidiary, SKF Holding France S.A., on July 4, 2006.

We initiated a changed-circumstances review pursuant to the request by SKF France and SNFA France on March 2, 2007. See Ball Bearings and Parts Thereof from France: Initiation of an Antidumping Duty Changed-Circumstances Review, 72 FR 9513 (March 2, 2007). On March 9, 2007, the Department self-initiated changed-circumstances reviews of the orders on ball bearings from Italy and the United Kingdom. See Ball Bearings and Parts Thereof from Italy and the United Kingdom: Initiation of Antidumping Duty Changed-Circumstances Reviews, 72 FR 10643 (March 9, 2007). For each review, we have requested more detailed information from the merged SKF/SNFA entities. The entities have complied with our requests and Timken US Corporation, the petitioner in the investigations, has submitted comments on the information.

On June 29, 2007, we initiated administrative reviews of the orders on ball bearings from France, Italy, and the United Kingdom for the period from May 1, 2006, through April 30, 2007. See Initiation of Antidumping and Countervailing Duty Administrative Reviews, Request for Revocation in Part and Deferral of Administrative Review, 72 FR 35690 (June 29, 2007). After analysis of the quantity and value of the sales of ball bearings from France during the period of review, we selected SKF France as a respondent for individual examination in the administrative review of the order covering that merchandise. See “Memorandum to Laurie Parkhill from Thomas Schauer regarding Ball Bearings and Parts Thereof from France Respondent Selection” dated August 14, 2007. After a similar analysis of sales of ball bearings from Italy, we selected SKF Italy as a respondent for individual examination in the review of the order covering ball bearings from Italy. See “Memorandum to Laurie Parkhill from Thomas Schauer regarding Ball Bearings and Parts Thereof from Italy Respondent Selection” dated August 14, 2007. We received no request to review the sales of SKF UK in the administrative review of the order on ball bearings from the United Kingdom.

Scope of the Order

The products covered by these orders are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

As a result of recent changes to the Harmonized Tariff Schedule, effective February 2, 2007, the subject merchandise is also classifiable under the following additional HTS item numbers: 8708.30.5090, 8708.40.7500, 8708.50.7900, 8708.50.8900, 8708.50.9150, 8708.50.9900, 8708.80.6590, 8708.94.75, 8708.95.2000, 8708.99.5500, 8708.99.68, and 8708.99.8180.

Although the HTSUS item numbers above are provided for convenience and customs purposes, written descriptions of the scope of these orders remain dispositive.

For a listing of scope determinations which pertain to the orders, see the Scope Determination Memorandum from the Antifriction Bearings Team to Laurie Parkhill, dated May 29, 2007, which is on file in the Central Records Unit (CRU) of the main Commerce building, room B-099, in the General Issues record (A-100-001) for the 2005-2006 reviews.

Rescission of Reviews

The mergers of the SKF/SNFA entities in France, Italy, and the United Kingdom occurred in July 2006, during the period under review in the 2006/2007 administrative reviews of the orders on ball bearings from those countries. Because SKF France and SKF Italy have been selected as respondents for individual examination in those reviews, we will be examining the impact of the mergers with respect to the sales that they, or their subsidiaries, made to the United States during the period of review and the effect that these mergers have had on the operations and management of the relevant firms for the purposes of determining, among other things, whether the SKF companies should be collapsed with their SNFA counterparts. Thus, we intend to address any considerations arising from the changed-circumstances reviews on ball bearings from France and Italy in the context of the administrative reviews for SKF France and SKF Italy. Accordingly, we are rescinding the changed-circumstances reviews with respect to the antidumping duty orders on ball bearings and parts thereof from France and Italy.

We will incorporate the records of the rescinded reviews into the records of the appropriate administrative reviews.

Dated: October 19, 2007.
David M. Spooner,
Assistant Secretary for Import Administration.

[FR Doc. E7-21118 Filed 10-25-07; 8:45 am]

BILLING CODE 3510-DS-S